DEPARTMENT OF HEALTH AND HUMAN SERVICES

National Institutes of Health

Office of the Director, National Institutes of Health; Notice of Meeting

Pursuant to section 1009 of the Federal Advisory Committee Act, as amended, notice is hereby given of a meeting of the Advisory Committee to the Deputy Director for Intramural Research.

The meeting will be held as a virtual meeting and will be open to the public as indicated below. Individuals who plan to view the virtual meeting and need special assistance or other reasonable accommodations to view the meeting, should notify the Contact Person listed below in advance of the meeting. The meeting can be accessed from the NIH Videocast at the following link: https://videocast.nih.gov/.

Name of Committee: Advisory Committee to the Deputy Director for Intramural Research.

Date: June 29, 2023.

Time: 12:00-4:00 p.m. EST.

Agenda: The NIH Lasker Clinical Research Scholars Program supports clinical researchers in the early stages of their independent research careers. In this meeting the Lasker Scholar program will be evaluated by a panel of outside reviewers.

Place: National Institutes of Health, 1 Center Drive, Building 1, Room 160, Bethesda, MD 20892, (Virtual Meeting).

This meeting is a virtual meeting via Zoom and can be accessed at: https://nih.zoomgov.com/j/1603953532?pwd=ekhzWjFGQy9MN2lJeHRtRFRVSzBWdz09.

Meeting ID: 160 395 3532.

Passcode: 504446.

One tap mobile:

+16692545252,,1603953532#,,,,*504446# US (San Jose)

+16468287666,,1603953532#,,,,*504446# US (New York)

Dial by your location:

+1 669 254 5252 US (San Jose)

+1 646 828 7666 US (New York)

+1 646 964 1167 US (US Spanish Line)

+1 669 216 1590 US (San Jose)

+1 415 449 4000 US (US Spanish Line)

Find your local number: https://nih.zoomgov.com/u/adXt6RfRSZ.

Contact Person: Margaret McBurney, Management Analyst, Office of the Deputy Director for Intramural Research, National Institutes of Health, 1 Center Drive, Room 160, Bethesda, MD 20892-0140, (301) 496-1921, mmcburney@od.nih.gov.

Any interested person may file written comments with the committee by forwarding the statement to the Contact Person listed on this notice. The statement should include the name, address, telephone number and when applicable, the business or professional affiliation of the interested person.

Information is also available on the Office of Intramural Research home page: http://sourcebook.od.nih.gov/.

Dated: May 17, 2023.
David W. Freeman,
Supervisory Program Analyst, Office of Federal Advisory Committee Policy.

[FR Doc. 2023-10896 Filed 5-22-23; 8:45 am]

BILLING CODE 4140-01-P